DEPARTMENT OF THE INTERIOR

National Park Service

[NPS-WASO-NAGPRA-NPS0035440; PPWOCRADN0-PCU00RP14.R50000]

Notice of Intent To Repatriate Cultural Items: Hudson Museum, University of Maine, Orono, ME

AGENCY: National Park Service, Interior.

ACTION: Notice.

SUMMARY: In accordance with the Native American Graves Protection and Repatriation Act (NAGPRA), the Hudson Museum intends to repatriate certain cultural items that meet the definition of objects of cultural patrimony and that have a cultural affiliation with the Indian Tribes or Native Hawaiian organizations in this notice. The cultural items were removed from Cattaraugus County, NY.

DATES: Repatriation of the cultural items in this notice may occur on or after April 10, 2023.

ADDRESSES: Amber Sky Heller, Registrar, Hudson Museum, University of Maine, 5746 Collins Center for the Arts, Orono, ME 04469, telephone (207) 581-1902, email amber.sky.heller@maine.edu.

SUPPLEMENTARY INFORMATION: This notice is published as part of the National Park Service's administrative responsibilities under NAGPRA. The determinations in this notice are the sole responsibility of the Hudson Museum. The National Park Service is not responsible for the determinations in this notice. Additional information on the determinations in this notice, including the results of consultation, can be found in the summary or related records held by the Hudson Museum.

Description

The three cultural items were removed from Cattaraugus County, NY. Sometime in the 1960s, three masks were removed from a long house on the Allegheny Reservation prior to the building's inundation by the Kinzua Dam. In 1969, the three masks were purchased by the University of Maine from Sheldon M. Tucker, M.D., of Houston, TX. Dr. Richard Emerick, founding Director, coordinated the purchase of the masks for the University's Anthropology Museum, which became the Hudson Museum in 1986. The three objects of cultural patrimony are a Wolf Clan Mask (HM4838), a Consolation Mask (HM4839), and a New Year's Ceremonial Mask (HM4840).

In March of 2020, the Hudson Museum began consultation with Dr. Joe Stahlman, Director of the Seneca-Iroquois National Museum and Tribal Historic Preservation Officer for the Seneca Nation of Indians. Subsequently, the Hudson Museum determined that the masks are culturally affiliated with the Coldspring Longhouse of the Seneca Nation of Indians.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: anthropological, geographical, historical, and other relevant information.

Determinations

Pursuant to NAGPRA and its implementing regulations, and after consultation with the appropriate Indian Tribes and Native Hawaiian organizations, the Hudson Museum has determined that:

• The three cultural items described above have ongoing historical, traditional, or cultural importance central to the Native American group or culture itself, rather than property owned by an individual.

• There is a relationship of shared group identity that can be reasonably traced between the cultural items and the Seneca Nation of Indians.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after April 10, 2023. If competing requests for repatriation are received, the Hudson Museum must determine the most appropriate requestor prior to repatriation. Requests for joint repatriation of the cultural items are considered a single request and not competing requests. The Hudson Museum is responsible for sending a copy of this notice to the Indian Tribe identified in this notice.

Authority: Native American Graves Protection and Repatriation Act, 25 U.S.C. 3003, and the implementing regulations, 43 CFR 10.8, 10.10, and 10.14.

Dated: March 1, 2023.
Melanie O'Brien,
Manager, National NAGPRA Program.

[FR Doc. 2023-04893 Filed 3-9-23; 8:45 am]

BILLING CODE 4312-52-P